DEPARTMENT OF ENERGY

Federal Energy Regulatory Commission

[Docket Nos. CP01-4-000, CP01-5-000, CP01-8-000]

Maritimes & Northeast Pipeline, L.L.C., Algonquin Gas Transmission Company and Texas Eastern Transmission Corporation; Notice of Availability of the Draft Environmental Impact Statement for the Proposed Phase III/Hubline Pipeline Project

July 6, 2001.

The staff of the Federal Energy Regulatory Commission (FERC or Commission) has prepared a Draft Environmental Impact Statement (DEIS) on the natural gas pipeline facilities proposed by Maritimes & Northeast Pipeline, L.L.C. (Maritimes), and Algonquin Gas Transmission Company (Algonquin) (collectively the Applicants) in the above-referenced docket.

The DEIS was prepared to satisfy the requirements of the National Environmental Policy Act. The staff concludes that approval of the proposed project with the appropriate mitigating measures as recommended, would have limited adverse environmental impact. The DEIS also evaluates alternatives to the proposal, including major route alternatives; and route variations, and requests comments on them.

The DEIS addresses the potential environmental effects of the construction and operation of the following facilities:

• About 24.8 miles of new, primarily onshore natural gas pipeline (23.8 miles of 30-inch-diameter pipeline and 1.0 miles of 24-inch-diameter pipeline) referred to as the Maritimes Phase III pipeline;

• About 29.4 miles of new, primarily offshore natural gas pipeline (24-inch-diameter pipeline) referred to as the HubLine pipeline;

• About 5.4 miles of new, primarily offshore natural gas pipeline (16-inch-diameter pipeline) referred to as the Deer Island Lateral; and

• Three new meter stations, four mainline valves, and related facilities.

The purpose of the proposed facilities would be to transport about 150,500 dekatherms per day of natural gas to five customers in Massachusetts and Connecticut. In addition, the project would provide leased capacity of 80,000 dekatherms per day of natural gas for Texas Eastern Transmission Corporation.

Joint State and Federal Review

On January 16, 2001, the Secretary of the Executive Office of Environmental Affairs for the Commonwealth of Massachusetts issued a Certificate on the Environmental Notification Form (state Certificate) for these projects. The Secretary determined that the projects require the preparation of an Environmental Impact Report (EIR) pursuant to the Massachusetts Environmental Policy Act (MEPA).

In order to accomplish the goal of addressing the requirements of both the state and the Federal government in a “single” document, the Applicants intend to file the DEIS with the MEPA office along with supplemental materials (Supplement) that will respond to specific issues identified in the state Certificate and in the comments submitted on the Environmental Notification Form (ENF) that may not have been identified or specifically addressed in the DEIS. The Supplement will include an appendix containing ENF comment letters with indexed and narrative responses by the Applicants. The Supplement and the DEIS are collectively intended to comprise the Draft EIR for purposes of review under MEPA.

The Applicants intend to file the Supplement with the MEPA office and the Commission as soon as practicable following the issuance of the DEIS so as to match as closely as possible the state and Federal comment periods. The Applicants have stated that they will consider, at the appropriate time, requesting an extension of either comment period so that commentors will have the opportunity to file a single set of comments with both the Commission and MEPA.

This DEIS has been distributed to the commentors and others listed in the state Certificate.

Comment Procedures and Public Meeting

Any person wishing to comment on the DEIS may do so. To ensure consideration prior to a Commission decision on the proposal, it is important that we receive your comments before the date specified below. Please carefully follow these instructions to ensure that your comments are received in time and properly recorded:

• Send an original and two copies of your comments to: Secretary, Federal Energy Regulatory Commission, 888 First St., NE., Room 1A, Washington, DC 20426;

• Label one copy of the comments for the attention of Gas 2, PJ11.2;

• Reference Docket Nos. CP01-4-000, CP01-5-000 and CP01-8-000; and

• Mail your comments so that they will be received in Washington, DC on or before August 27, 2001.¹

¹ The front material in the DEIS incorrectly identifies September 3, 2001 as the end of the comment period.

Comments, protests and interventions may be filed electronically via the Internet in lieu of paper. See 18 CFR 385.2001(a)(1)(iii) and the instructions on the Commission's web site at http://www.ferc.gov under the “e-Filing” link and the link to the User's Guide. Before you can file comments you will need to create an account which can be created by clicking on “Login to File” and then “New User Account.”

We will announce in a future notice, the location and time of at least one local public meeting to receive comments on the DEIS.

After these comments are reviewed, any significant new issues are investigated, and modifications are made to the DEIS, a Final Environmental Impact Statement (FEIS) will be published and distributed by the staff. The FEIS will contain the staff's responses to timely comments filed on the DEIS.

Comments will be considered by the Commission but will not serve to make the commentor a party to the proceeding. Any person seeking to become a party to the proceeding must file a motion to intervene pursuant to Rule 214 of the Commission's Rules of Practice and Procedures (18 CFR 385.214).

Anyone may intervene in this proceeding based on this DEIS. You must file your request to intervene as specified above. ² You do not need intervenor status to have your comments considered.

² Interventions may also be filed electronically via the Internet in lieu of paper. See the previous discussion on filing comments electronically.

The DEIS has been placed in the public files of the FERC and is available for distribution and public inspection at: Federal Energy Regulatory Commission, Public Reference and Files Maintenance Branch, 888 First Street, NE., Room 2A, Washington, DC 20426, (202) 208-1371.

A limited number of copies are available from the Public Reference and Files Maintenance Branch identified above. In addition, copies of the DEIS have been mailed to Federal, state and local agencies, public interest groups, individuals who have requested the DEIS, newspapers, and parties to this proceeding. It has also been distributed to the commentors and others listed in the state Certificate.

Additional information about the proposed project is available from the Commission's Office of External Affairs, at (202) 208-1088 or on the FERC Internet website (www.ferc.gov) using the “RIMS” link to information in this docket number. Click on the “RIMS” link, select “Docket #” from the RIMS Menu, and follow the instructions. For assistance with access to RIMS, the RIMS helpline can be reached at (202) 208-2222.

Similarly, the “CIPS” link on the FERC Internet website provides access to the texts of formal documents issued by the Commission, such as orders, notices, and rulemakings. From the FERC Internet website, click on the “CIPS” link, select “Docket #” from the CIPS menu, and follow the instructions. For assistance with access to CIPS, the CIPS helpline can be reached at (202) 208-2474.

David P. Boergers,
Secretary.

[FR Doc. 01-17455 Filed 7-11-01; 8:45 am]

BILLING CODE 6717-01-P